ENVIRONMENTAL PROTECTION AGENCY

[FRL 8223-7]

Proposed CERCLA Cost Recovery Settlement; Denova Environmental Site

AGENCY: Environmental Protection Agency.

ACTION: Notice; request for public comment.

SUMMARY: In accordance with Section 122(i) of the Comprehensive Environmental Response, Compensation, and Liability Act, as amended (CERCLA), 42 U.S.C. 9622(i), notice is hereby given of a proposed administrative settlement for recovery of past response costs concerning the Denova Environmental Site in Rialto, San Bernardino County, California with twenty-two settling parties. The settlement is entered into pursuant to Section 122(h) of CERCLA, 42 U.S.C. 9622(h) and it requires the settling parties to pay approximately $220,000 to the United States Environmental Protection Agency (EPA). The settlement includes a covenant not to sue the settling parties pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 75 Hawthorne Street, San Francisco, CA 94105.

DATES: Comments must be submitted on or before October 30, 2006.

ADDRESSES: The proposed settlement is available for public inspection at EPA Region IX, 75 Hawthorne Street, San Francisco, California. A copy of the proposed settlement may be obtained from Lewis Maldonado, EPA Region IX, 75 Hawthorne Street, ORC-3, San Francisco, CA 94105, telephone number 415-972-3926. Comments should reference the Denova Environmental Superfund Site, Rialto, California and EPA Docket No. 2005-23 and should be addressed to Lewis Maldonado at the above address.

FOR FURTHER INFORMATION CONTACT: Lewis Maldonado, Office of Regional Counsel, U.S. EPA Region IX, 75 Hawthorne Street, San Francisco, CA 94105; phone: (415) 972-3926; fax: (415) 947-3570; e-mail: maldonado.lewis@epa.gov.

Dated: July 19, 2008.
Daniel Meer,
Acting Director, Superfund Division, U.S. EPA, Region IX.

[FR Doc. E6-15913 Filed 9-27-06; 8:45 am]

BILLING CODE 6560-50-P